DEPARTMENT OF COMMERCE

International Trade Administration

[A-549-817]

Notice of Extension of Time Limit for Preliminary Results of Antidumping Duty Administrative Review: Certain Hot-Rolled Carbon Steel Flat Products From Thailand

AGENCY: Import Administration, International Trade Administration, Department of Commerce.

SUMMARY: The Department of Commerce (“the Department”) is conducting an administrative review of the antidumping duty order on certain hot-rolled carbon steel flat products from Thailand in response to requests by petitioners, National Steel Corporation, United States Steel Corporation, and Nucor Corporation. The review covers shipments to the United States for the period May 3, 2001 through October 31, 2002, by Sahaviriya Steel Industries Public Company Limited (“SSI”), Nakornthai Strip Mill Public Co., Ltd. (“Nakornthai”), and Siam Strip Mill Public Co., Ltd (“Siam Strip”). For the reasons discussed below, we are extending the preliminary results of this administrative review by 120 days, to no later than December 1, 2003.

EFFECTIVE DATE: July 7, 2003.

FOR FURTHER INFORMATION CONTACT: Michael Ferrier at 202-482-1394, or Abdelali Elouaradia at 202-482-1374, Import Administration, International Trade Administration, U.S. Department of Commerce, 14th Street and Constitution Ave, NW, Washington, DC 20230.

Background

On November 29, 2001, the Department published the antidumping duty order on hot-rolled steel (see Antidumping Duty Order: Certain Hot-Rolled Carbon Steel Flat Products From Thailand, 66 FR 59562). On November 1, 2002, the Department published a notice of opportunity to request an administrative review for this order covering the period May 3, 2001 through October 31, 2002 (see Antidumping or Countervailing Duty Order, Finding, or Suspended Investigation; Opportunity To Request Administrative Review, 67 FR 66612). On November 27, 2002, SSI requested a review in accordance with 19 CFR 351.213(b)(2), and the petitioners requested a review of SSI, Nakornthai, and Siam Strip under 19 CFR 351.213(b)(1). The petitioners are Nucor Corporation, National Steel Corporation, and United States Steel Corporation. The Department initiated these reviews on December 26, 2002 (see Initiation of Antidumping and Countervailing Duty Administrative Reviews, 67 FR 78772).

On February 14, 2003, petitioners filed a letter alleging that a particular market situation existed in Thailand during the period of review. Petitioners filed additional comments regarding the particular market situation on March 17, 2003, and April 24, 2003. SSI filed comments and its responses to the Department's supplemental questionnaires regarding the particular market situation on March 4, 2003, March 28, 2003, and June 20, 2003. On March 12, 2003, and May 6, 2003, petitioners alleged that SSI may be affiliated with one of the trading companies SSI used to sell its products in the United States and one of SSI's slab suppliers. The preliminary results are currently due not later than August 4, 2003.

Extension of Time Limits for Preliminary Results

Pursuant to section 751(a)(3)(A) of the Act and 19 CFR 351.213(h)(2) of the Department's regulations, the Department may extend the deadline for completion of the preliminary results of a review if it determines that it is not practicable to complete the preliminary results within the statutory time limit of 245 days from the last day of the anniversary month of the order for which the administrative review was requested. Because of the complexity of the particular market situation and affiliation issues in this case, it is not practicable for the Department to complete this review within the time limit mandated by section 751(a)(3)(A) of the Act. The Department requires additional time to evaluate information submitted by SSI and petitioners regarding the particular market situation and affiliation issues.

Therefore, in accordance with section 751(a)(3)(A) of the Act and 19 CFR 351.213(h)(2) of the Department's regulations, the Department is extending the time limits for the preliminary results by 120 days, to no later than December 1, 2003.

Dated: June 30, 2003.
Barbara E. Tillman,
Acting Deputy Assistant Secretary for Import Administration, Group III.

[FR Doc. 03-17063 Filed 7-3-03; 8:45 am]

BILLING CODE 3510-DS-S